DEPARTMENT OF ENERGY

Federal Energy Regulatory Commission

Combined Notice of Filings #2

Take notice that the Commission received the following electric corporate filings:

Docket Numbers: EC17-188-000.

Applicants: Milford Wind Corridor Phase I, LLC, Milford Wind Corridor Phase II, LLC.

Description: Application for Authorization for Disposition of Jurisdictional Facilities and Request for Expedited Action of Milford Wind Corridor Phase I, LLC, et al.

Filed Date: 9/25/17.

Accession Number: 20170925-5027.

Comments Due: 5 p.m. ET 10/16/17.

Docket Numbers: EC17-189-000.

Applicants: Innovative Solar 42, LLC.

Description: Application for Authorization under Section 203 of the Federal Power Act and Request for Waivers, Confidential Treatment, Expedited Action and Shortened Comment Period of Innovative Solar 42, LLC.

Filed Date: 9/25/17.

Accession Number: 20170925-5042.

Comments Due: 5 p.m. ET 10/16/17.

Docket Numbers: EC17-190-000.

Applicants: American Electric Power Service Corporation.

Description: Application Under Section 203 of the Federal Power Act to Acquire Transmission Facilities and Request for Expedited Consideration, et al. of American Electric Power Service Corporation, et al.

Filed Date: 9/25/17.

Accession Number: 20170925-5082.

Comments Due: 5 p.m. ET 10/16/17.

Take notice that the Commission received the following electric rate filings:

Docket Numbers: ER17-1914-001.

Applicants: Tucson Electric Power Company.

Description: Tariff Amendment: Response to Deficiency Letter to be effective 5/28/2017.

Filed Date: 9/25/17.

Accession Number: 20170925-5046.

Comments Due: 5 p.m. ET 10/16/17.

Docket Numbers: ER17-2546-000.

Applicants: Midcontinent Independent System Operator, Inc.

Description: § 205(d) Rate Filing: 2017-09-25_SA 3054 IWF Holdings-ITCM GIA (J041) to be effective 9/11/2017.

Filed Date: 9/25/17.

Accession Number: 20170925-5047.

Comments Due: 5 p.m. ET 10/16/17.

Take notice that the Commission received the following foreign utility company status filings:

Docket Numbers: FC17-8-000.

Applicants: Amplus Andhra Power Private Limited.

Description: Notification of Self-Certification of Foreign Utility Company Status of Amplus Andhra Power Private Limited, et al.

Filed Date: 9/25/17.

Accession Number: 20170925-5039.

Comments Due: 5 p.m. ET 10/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2017.
Nathaniel J. Davis, Sr.,
Deputy Secretary.

[FR Doc. 2017-20998 Filed 9-29-17; 8:45 am]

BILLING CODE 6717-01-P